DEPARTMENT OF LABOR

Employment and Training Administration

[TA-W-70,774]

Sychip, Inc., Including On-Site Leased Workers From Adminstaff, Plano, TX; Amended Certification Regarding Eligibility To Apply for Worker Adjustment Assistance

In accordance with Section 223 of the Trade Act of 1974, as amended (“Act”), 19 U.S.C. 2273, the Department of Labor issued a Certification of Eligibility to apply for Worker Adjustment Assistance on September 23, 2009, applicable to workers of Sychip, Inc., Plano, Texas. The notice will be published soon in the Federal Register.

At the request of the State Agency, the Department reviewed the certification for workers of the subject firm. The workers are engaged in activities related to the production of wireless modules.

The company reports that workers leased from Adminstaff were employed on-site at the Plano, Texas location of Sychip, Inc. to provide payroll services. The Department has determined these workers were sufficiently under the control of the subject firm to be considered leased workers.

Information also shows that workers wages at the subject firm are being reported under the Unemployment Insurance (UI) tax account for Adminstaff.

Based on these finding, the Department is amending this certification to include workers leased from Adminstaff on-site at the Plano, Texas location of Sychip, Inc.

The amended notice applicable to TA-W-70,774 is hereby issued as follows:

All workers of Sychip, Inc., including on-site leased workers from Adminstaff, Plano, Texas, who became totally or partially separated from employment on or after May 27, 2008 through September 23, 2011, and all workers in the group threatened with total or partial separation from employment on the date of certification through two years from the date of certification, are eligible to apply for adjustment assistance under Chapter 2 of Title II of the Trade Act of 1974, as amended.

Signed in Washington, DC, this 21st day of October 2009.
Richard Church,
Certifying Officer, Division of Trade Adjustment Assistance.

[FR Doc. E9-27009 Filed 11-9-09; 8:45 am]

BILLING CODE 4510-FN-P